DEPARTMENT OF STATE

[Public Notice: 9748]

Advisory Committee on International Economic Policy; Notice of Open Meeting

The Advisory Committee on International Economic Policy (ACIEP) will meet from 2:00 until 5:00 p.m., on Tuesday, October 25, in New York City at 383 Madison Avenue, 13th floor, Conference Room 1311; New York, NY. The meeting will be hosted by the Assistant Secretary of State for Economic and Business Affairs, Charles H. Rivkin, and Committee Chair Paul R. Charron. The ACIEP serves the U.S. Government in a solely advisory capacity, and provides advice concerning topics in international economic policy. It is expected that during this meeting, the ACIEP subcommittees on sanctions policy and the Stakeholder Advisory Board will provide updates on their recent work.

This meeting is open to the public, though seating is limited. Entry to the building is controlled. To obtain pre-clearance for entry, members of the public planning to attend must, no later than Friday, October 14, provide their full name and professional affiliation to Alan Krill by email: KrillA@state.gov. Requests for reasonable accommodation should be made to Alan Krill before Friday, October 14. Requests made after that date will be considered, but might not be possible to fulfill.

For additional information, contact Alan Krill, Bureau of Economic and Business Affairs, at (202) 647-2231, or KrillA@state.gov.

Dated: September 26, 2016.
Alan Krill,
Designated Federal Officer, U.S. Department of State.

[FR Doc. 2016-24212 Filed 10-5-16; 8:45 am]

BILLING CODE 4710-AE-P